DEPARTMENT OF DEFENSE

Department of the Navy

Notice of Intent To Grant Partially Exclusive License; Unique Technologies, Inc.

AGENCY: Department of the Navy, DOD.

ACTION: Notice.

SUMMARY: The Department of the Navy gives notice of its intent to grant Unique Technologies, Inc., a revocable, nonassignable, partially exclusive license, with exclusive fields of use in commercial and residential bactericide and fungicide, commercial and residential decontamination, fuel additive, post harvest preservation, pre-emergent, fuel additives and frost mediation, in the United States to practice the Government-Owned inventions, U.S. Patent Application Serial Number 10/283,352 entitled “Nitrate-Hydrogen Peroxide Chemical Adducts and Use thereof” , U.S. Patent Number 6,165,295 entitled “Gas-Generating Liquid Compositions (PERSOL 1)” and U.S. Patent Number 6,230,491 entitled “Gas-Generating Liquid Compositions (PERSOL 1).”

DATES: Anyone wishing to object to the grant of this license must file written objections along with supporting evidence, if any, not later than October 10, 2003.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: September 10, 2003.
E.F. McDonnell,
Major, U.S. Marine Corps, Federal Register Liaison Officer.

[FR Doc. 03-23912 Filed 9-18-03; 8:45 am]

BILLING CODE 3810-FF-P